POSTAL SERVICE

39 CFR Part 111

Mailing Currency

AGENCY: Postal Service™.

ACTION: Final rule.

SUMMARY: The Postal Service is amending Mailing Standards of the United States Postal Service, Domestic Mail Manual (DMM®) to clarify the standards for mailing currency.

DATES: Effective: April 30, 2023.

FOR FURTHER INFORMATION CONTACT: Dale Kennedy at (202) 268-6592 or Garry Rodriguez at (202) 268-7281.

SUPPLEMENTARY INFORMATION: On January 23, 2023, the Postal Service published a notice of proposed rulemaking (88 FR 3944-3945) to clarify the standards for mailing currency. The proposed standards required commercial cash deposits over $500.00 be sent using Registered Mail® service. In response to the proposed rule, the Postal Service received comments from nine commenters.

Comment: All commenters, four in part, requested an extension of the effective date, with varying timeframes, stating that they need additional time to make alternate arrangements for their cash deposits.

Response: The Postal Service agrees and believes that extending the effective date from March 1, 2023, to April 30, 2023, is a commercially reasonable amount of time.

Comment: Three commenters requested an increase of the $500.00 threshold for mailing cash deposits with Registered Mail service to $1,000.00 or $2,000.00.

Response: The Postal Service has decided to maintain the $500.00 threshold requiring cash deposits be mailed with Registered Mail service. In March 2022 the OIG recommended that the Postal Service conduct a cost-benefit analysis of the deposit by mail concept. Through this analysis, the Postal Service determined that a $500.00 threshold was appropriate to provide customers with additional security controls while mitigating employee safety and theft risk.

Comment: One commenter included a request to make an exemption for seasonal mailers. When cash deposits by mail do not occur throughout the year, the expense of alternate deposit arrangements is higher, putting these businesses at a competitive disadvantage.

Response: The Postal Service recognizes that some customers may be seasonal, however most customers conduct these types of transactions throughout the year. To issue a seasonal exception, would create operational and processing complexities which could produce security and service risks. This could also pose unintended impacts on the registered mail product.

While not specifically addressed in the comments, there appeared to be some confusion on the term “commercial cash deposits.” As a result, the Postal Service is providing a clarification by stating “commercial cash transactions.”

The Postal Service is revising subsection 503.2.1 to require commercial cash transactions over $500.00 be sent using Registered Mail® service.

In addition, the Postal Service is adding new subsection 601.1.3, Mailing Currency, to provide clarity in the mailing of currency including the requirement to send a commercial cash transaction over $500.00 as Registered Mail.

The DMM requirements in subsection 601.1.3 in the proposed rule provided “mailers must not use any USPS-provided packaging” (i.e., expedited packaging supplies) for commercial cash deposits over $500.00. The Postal Service is extending this requirement to read any commercial cash transaction regardless of amount.

The Postal Service believes this revision will provide customers with a safe and secure service for their mailing needs.

The Postal Service adopts the following changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

503 Extra Services

* * * * *

2.0 Registered Mail

2.1 Basic Standards

* * * * *

[Revise the text of 2.1 by adding new 2.1.6 to read as follows:]

2.1.6 Mailing Cash Transactions

Items mailed containing commercial cash transactions over $500.00 must be sent as Registered Mail (see 601.1.3.4).

* * * * *

600 Basic Standards for All Mailing Services

601 Mailability

* * * * *

[Renumber 1.3 and 1.4 as 1.4 and 1.5, add new 1.3 to read as follows:]

1.3 Mailing Currency

1.3.1 General

Currency (i.e., coins, Federal Reserve notes or other bank notes is mailable under any class of mail except where prohibited by standards.

1.3.2 Insurance

Except for philatelic items and numismatic coins under 609.4.1g, eligible classes of mail containing currency may be insured with a maximum indemnity of $15.00.

1.3.3 Registered Mail

Except under 1.3.4, eligible classes of mail containing currency may use Registered Mail service with included insurance payable at full value up to the applicable limit. (see 503.2.2.1).

1.3.4 Mailing Cash Transactions

The following standards apply for sending commercial cash transactions:

a. Mailers must use Registered Mail service under 503.2.1.6 for commercial cash transactions over $500.00.

b. Mailers must not use any USPS-provided packaging (i.e., expedited packaging supplies) when mailing commercial cash transactions regardless of the amount.

* * * * *

Tram T. Pham,
Attorney, Ethics and Legal Compliance.

[FR Doc. 2023-04475 Filed 3-7-23; 8:45 am]

BILLING CODE P